DEPARTMENT OF THE INTERIOR

Bureau of Land Management

Notice of Intent To Prepare an Amendment to the California Desert Conservation Area Plan and Environmental Impact Statement for the Imperial Sand Dunes Recreation Area in Imperial County, CA

AGENCY: Bureau of Land Management, USDI.

ACTION: Notice of Intent to Prepare an amendment to the California Desert Conservation Area Plan and an Environmental Impact Statement (EIS) for the Imperial Sand Dunes Recreation Area in Imperial County, California.

SUMMARY: In accordance with the Federal Land Policy Act (FLPMA) and the National Environmental Policy Act of 1969 (NEPA), the Bureau of Land Management, California Desert District, El Centro Field Office, will prepare a management plan for the Imperial Sand Dunes Recreation Area (ISDRA). The management plan will amend the CDCA plan. The management plan is needed to replace the existing management plan which has been in place since 1987 and has become outdated as a result of the federal listing of Peirson's milk-vetch as a threatened species, designation of the North Algodones Dunes as wilderness, and substantial changes in visitor use.

DATES: The public is invited to submit comments on the scope of the plan amendment and EIS. Written comments will be accepted for 30 days after publication of this notice. Three (3) public meetings will be held in El Centro, California; San Diego, California; and Phoenix, Arizona. The time and place for these meetings will be published in the San Diego Union Tribune, Arizona Republic , Imperial Valley Press, Yuma Daily Sun. BLM intends to complete the management plan under an accelerated schedule by the Fall of 2002. This schedule will allow BLM to replace the proposed temporary closures of five areas within the Imperial Sand Dunes Federal Register: November 16, 2000 (Volume 65, Number 222) with a long term management plan prior to the beginning of the peak recreation use period next year. The proposed temporary closure is to be implemented to protect the Peirson's milk-vetch from potential impact by OHV use while consultation occurs with the U.S. Fish and Wildlife Service in accordance with Section 7 of the Endangered Species Act. To achieve this accelerated schedule, no extensions of the scoping period or the subsequent public review period for the draft management plan and draft EIS are contemplated.

SUPPLEMENTARY INFORMATION: On March 16, 2000, the Center for Biological Diversity, and others (Center) filed for injunctive relief in U.S. District Court, Northern District of California (Court) against BLM alleging that BLM was in violation of Section 7 of the Endangered Species Act (ESA), 16 U.S.C § 1536, by failing to enter into formal consultation with the U.S. Fish and Wildlife Service (FWS) on the effects of adoption of the CDCA Plan, as amended, upon threatened and endangered species. On August 25, 2000, BLM acknowledged through a Court stipulation that activities authorized, permitted, or allowed under the CDCA Plan may adversely affect threatened and endangered species, and that BLM is required to consult with the FWS to insure that adoption and implementation of the CDCA Plan is not likely to jeopardize the continued existence of threatened and endangered species or to result in the destruction or adverse modification of critical habitat of listed species.

Although BLM has received biological opinions on selected activities, consultation on the overall CDCA Plan is necessary to address the cumulative effects of all the activities authorized by the CDCA Plan. Consultation on the overall CDCA Plan is complex and the completion date is uncertain. Absent consultation on the entire CDCA Plan, the impacts of individual activities, when added together with the impacts of other activities in the desert, are not known. The BLM entered into negotiations with plaintiffs regarding interim actions to be taken to provide protection for endangered and threatened species pending completion of the consultation on the CDCA Plan. Agreement on these interim actions avoided litigation of plaintiffs' request for injunctive relief and the threat of an injunction prohibiting all activities authorized under the Plan. These interim agreements have allowed BLM to continue to authorize appropriate levels of activities throughout the ISDRA planning area during the lengthy consultation process while providing appropriate protection to listed species in the short term. By taking interim actions as allowed under Part 43 of the Code of Federal Regulations (43 CFR Subpart 8364), BLM contributes to the conservation of endangered and threatened species in accordance with Section 7(a)(1) of the ESA. BLM also avoids making any irreversible or irretrievable commitment of resources which would foreclose any reasonable and prudent alternative measures which might be required as a result of the consultation on the CDCA plan in accordance with Section 7(d) of the ESA.

The ISDRA project area, trending generally for 40 miles from the southeast to northwest, comprises approximately 150,000 acres of public lands bounded approximately to the west by the Old Coachella Canal, to the east by the Union Pacific Railroad, to the North by Mammoth Wash, and to the south by Interstate 8 and the California/Mexico border. The primary activities conducted in the ISDRA include recreational camping and use of OHVs. Technical issues to be addressed in the RMP/EIS will include: biological resources (wildlife and botany); cultural resources and paleontology; water resources; noise; land use; geology and soils; mineral resources; socioeconomics; hazardous materials and solid waste; public health; visual resources; and traffic and transportation.

The El Centro Field Office originally started public scoping for this project with a series of seven (7) public scoping meetings conducted in January/February 2000. Comments received during the initial scoping have been retained and will be carried forward through the planning process.

The Tentative Project Schedule is as follows:

—File Draft EIS—February 2002

—File Final EIS—July 2002

—Record of Decision—October 2002

• Public participation will be especially important at several points during the analysis and planning process. The scoping process (40 CFR 1501.7) for this analysis will include:

—Identification of the issues to be addressed;

—Identification of viable alternatives; and

—Identification and notification of interested groups, individuals and agencies to determine level of participation and obtain additional information concerning issues to be addressed in the RMP/EIS.

Comments, including names and addresses of respondents, will be available for public review at the El Centro Field Office during normal working hours (7:45 AM to 4:15 PM, except holidays), and may be published as part of the EIS or other related documents. Individuals may request confidentiality. If you wish to withhold your name or address from public review or from disclosure under the Freedom of Information Act, you must state this promptly at the beginning of your comment. Such requests will be honored to the extent allowed by law. All submissions from organizations or businesses will be made available for public inspection in their entirety. The planning documents and direct supporting record for the analysis and RMP will be available for inspection at the El Centro Field Office during normal working hours. Historical records may also be posted on the BLM internet site to facilitate public access.

ADDRESSES: Comments should be sent to Greg Thomsen, Field Manager, El Centro Field Office, California Desert District, Bureau of Land Management, 1661 South 4th Street, El Centro, CA 92243.

FOR FURTHER INFORMATION OR TO SUBMIT COMMENTS CONTACT: Roxie Trost, Bureau of Land Management, 1661 South 4th Street, El Centro, CA 92243, (760) 337-4400.

Greg Thomsen,
Field Manager, El Centro Field Office.

[FR Doc. 01-25605 Filed 10-9-01; 8:45 am]

BILLING CODE 4310-40-P